DEPARTMENT OF HEALTH AND HUMAN SERVICES

Health Resources and Services Administration

Notice of a Cooperative Agreement With the National Association of County and City Health Officials

In anticipation of Fiscal Year (FY) 2001 funding, the Health Resources and Services Administration (HRSA) announces its intention to award a cooperative agreement with the National Association of County and City Health Officials (NACCHO) to increase access and eliminate disparities in health care for the underserved/uninsured by strengthening the local public health systems and supporting programs that assist local communities.

The purpose of this project is to: (1) Address the health care needs of the underserved and vulnerable populations, the needs of health care providers who serve vulnerable populations, and related public health issues; and (2) assist NACCHO in developing and convening national and regional policy forums and provide educational and resource materials emanating from these forums for county and city policymakers on the above areas.

There is no other ongoing group that can convene the high-ranking decision-makers representing county and city health officials' interests around an issue of importance to HRSA. This group will facilitate communication on current and emerging strategies addressing common priorities, and will enable HRSA to better leverage limited resources by improving planning and program design to complement other public and private sector initiatives serving the needs of the same populations.

Authorizing Legislation

This program is authorized under section 301 of the Public Health Service Act [42 U.S.C. 241], as amended.

Eligible Applicants

Assistance will be provided only to the National Association of County and City Health Officials (NACCHO). No other applications are solicited.

The NACCHO is the only nonprofit membership organization serving all of the nearly 3,000 local health departments nationwide—in cities, counties, townships, and districts.

Availability of Funds

Approximately $100,000 is available in FY 2001 to fund this award. It is expected the award will begin on or after October 1, 2000, and will be for a 12-month budget period with a project period of 5 years. Funding estimates may vary and are subject to change.

Continuation awards within an approved project period will be made on the basis of satisfactory progress as evidenced by required reports and the availability of funds.

Program Requirements

This project will provide an Agency-level cooperative agreement with NACCHO to address cross-cutting publicly-funded public health program integration and health care access issues identified by county and city public health officials. Through this project, NACCHO will provide assistance to HRSA and HRSA grantees, such as states and local governments, health centers, Maternal and Child Health programs, and rural health offices, to evaluate the effectiveness of their programs and initiatives to address the needs of the underserved and targeted populations. It will include activities that are mutually agreed to by HRSA and NACCHO, including addressing HRSA priority issues.

Specifically, HRSA's role in the cooperative agreement will include participating in the planning of the forums conducted during the period of the cooperative agreement, including developing the agendas and identifying participants who should be invited to address issues of importance from the Federal perspective at these forums, providing consultation and technical assistance in planning, operating, and evaluating program activities, facilitating collaboration with NACCHO staff and other county and city health agencies to reach the target population, facilitating efforts in the provision of technical assistance and training to specified individuals and organizations, and maintaining an ongoing dialogue with the applicant concerning program plans, policies, and other issues which may have major implications for any activities undertaken by the applicant under the cooperative agreement.

The recipient shall be responsible for carrying out activities to support the following:

(1) Developing, printing, and distributing articles, reports, or other documents relating to health care access, unmet population needs, provider capacity, the uses of existing data systems within counties and cities to address health care needs of the population, and the complexity of private sector initiatives for use by county and city health officials.

(2) Convening regional or national meetings of county and city health officials and others, as appropriate, for discussion of public and private sector strategies and best practices in HRSA priority issues to include appropriate topics and audiences to exchange information. Some of these priority issues include: (a) Infrastructure building; (b) capacity to assure provision of essential public health services; (c) providing an opportunity for HRSA stakeholders to comment on HRSA's performance; (d) building upon integrated public health infrastructures which use data to address public health issues of the counties and cities; (e) improving the health status of vulnerable populations; (f) assisting in the development of work force information systems; and (g) advising on the development of a Legislative Handbook on Public Health (review, solicit input from NACCHO members, summarize comments, and work closely with National Conference for State Legislatures' staff as the Handbook is drafted).

(3) Participating in HRSA-sponsored meetings and events, as appropriate.

(4) Coordinating activities with county and city health department contacts, including public health experts, to ensure that NACCHO members are aware of public health programs and activities in their local area.

Where To Obtain Additional Information

Diane Rodill, Ph.D., Project Officer, Center for Public Health Practice, Health Resources and Services Administration (HRSA), 5600 Fishers Lane, Room14-15 Parklawn Building, Rockville, MD 20857, Telephone: (301) 443-4034, E-mail: drodill@hrsa.gov

Dated: May 9, 2000.
Claude Earl Fox,
Administrator.

[FR Doc. 00-12059 Filed 5-12-00; 8:45 am]

BILLING CODE 4160-15-P